COMMITTEE FOR PURCHASE FROM PEOPLE WHO ARE BLIND OR SEVERELY DISABLED

Procurement List; Proposed Additions and Deletion

AGENCY: Committee for Purchase From People Who Are Blind or Severely Disabled.

ACTION: Proposed additions to and deletion from Procurement List.

SUMMARY: The Committee is proposing to add to the Procurement List commodities and services to be furnished by nonprofit agencies employing persons who are blind or have other severe disabilities, and to delete service previously furnished by such agencies.

COMMENTS MUST BE RECEIVED ON OR BEFORE: January 29, 2001.

ADDRESSES: Committee for Purchase From People Who Are Blind or Severely Disabled, Jefferson Plaza 2, Suite 10800, 1421 Jefferson Davis Highway, Arlington, Virginia 22202-3259.

FOR FURTHER INFORMATION CONTACT: Louis R. Bartalot (703) 603-7740

SUPPLEMENTARY INFORMATION: This notice is published pursuant to 41 U.S.C. 47(a)(2) and 41 CFR 51-2.3. Its purpose is to provide interested persons an opportunity to submit comments on the possible impact of the proposed actions.

Additions

If the Committee approves the proposed addition, all entities of the Federal Government (except as otherwise indicated) will be required to procure the commodities and services listed below from nonprofit agencies employing persons who are blind or have other severe disabilities. I certify that the following action will not have a significant impact on a substantial number of small entities. The major factors considered for this certification were:

1. The action will not result in any additional reporting, recordkeeping or other compliance requirements for small entities other than the small organizations that will furnish the commodities and services to the Government.

2. The action will result in authorizing small entities to furnish the commodities and services to the Government.

3. There are no known regulatory alternatives which would accomplish the objectives of the Javits-Wagner-O'Day Act (41 U.S.C. 46-48c) in connection with the commodities and services proposed for addition to the Procurement List. Comments on this certification are invited. Commenters should identify the statement(s) underlying the certification on which they are providing additional information. The following commodities and services have been proposed for addition to Procurement List for production by the nonprofit agencies listed:

Commodities

Tape, Duct, 5640-00-103-2254

NPA: Cincinnati Association for the Blind, Cincinnati, Ohio

Cloth, High Performance

7920-00-NIB-0194 (30 Pack)

7920-00-NIB-0390 (Single blister—Red/Yellow)

7920-00-NIB-0394 (Single blister—Blue)

7920-00-NIB-0395 (Single blister—Platinum Gray)

7920-00-NIB-0396 (Lens Cloth—White)

7920-00-NIB-0397 (3 Pack)

7920-00-NIB-0398 (5 Pack)

NPA: L.C. Industries for the Blind, Inc., Durham, North Carolina

Services

Janitorial/Custodial, Max Rosenn Courthouse, 197 South Main Street, Wilkes-Barre, Pennsylvania

NPA: United Rehabilitation Services, Inc., Wilkes-Barre, Pennsylvania

Janitorial/Custodial. VA Outpatient Clinic Charleston, West Virginia

NPA: Goodwill Industries of Kanawha Valley, Inc., Charleston, West Virginia

Laborer, Multi-Tasks Support Services, Post wide, Fort Hood, Texas

NPA: Professional Contract Services, Inc., Austin, Texas

Mailroom Operation, USDA, Rural Development Agency, St. Louis, Missouri

NPA: MGI Services Corporation, St. Louis, Missouri

Deletion

I certify that the following action will not have a significant impact on a substantial number of small entities. The major factors considered for this certification were:

1. The action will not result in any additional reporting, recordkeeping or other compliance requirements for small entities.

2. The action will result in authorizing small entities to furnish the commodities and services to the Government.

3. There are no known regulatory alternatives which would accomplish the objectives of the Javits-Wagner-O'Day Act (41 U.S.C. 46-48c) in connection with the commodities and services proposed for deletion from the Procurement List.

The following service has been proposed for deletion from the Procurement List:

Service

Commissary Shelf Stocking & Custodial

Charles Melvin Price Support Center Commissary, Granite City, Illinois

Louis R. Bartalot,
Deputy Director (Operations).

[FR Doc. 00-33360 Filed 12-28-00; 8:45 am]

BILLING CODE 6353-01-P